DEPARTMENT OF COMMERCE

National Oceanic and Atmospheric Administration

Notice of Designation of the Mission-Aransas National Estuarine Research Reserve in Texas

AGENCY: Estuarine Reserves Division, Office of Ocean and Coastal Resource Management, National Ocean Service, National Oceanic and Atmospheric Administration.

ACTION: Notice of Designation and availability of Notice of Record of Decision.

SUMMARY: Notice is hereby given that the National Oceanic and Atmospheric Administration (NOAA), U.S. Department of Commerce, has designated certain lands and waters of the Mission Aransas estuary in Texas as the Mission-Aransas National Estuarine Research Reserve

On May 3, 2006, Under Secretary of Commerce for Oceans and Atmosphere Vice Admiral Conrad C. Lautenbacher, Jr. USN (Ret.), signed a record of decision and a findings of designation for the Mission-Aransas National Estuarine Research Reserve in Texas pursuant to section 315 of the Coastal Zone Management Act of 1972, as amended, 16 U.S.C. 1461, and its implementing regulations at 15 CFR part 921. The Reserve duly received certification from the State of Texas Coastal Coordination Council that Reserve designation is consistent to the maximum extent practicable with its program. A copy of the official Record of Decision is available for public review from NOAA's Office of Ocean and Coastal Resource Management at the address below.

FOR FURTHER INFORMATION CONTACT: Laurie McGilvray (301) 713-3155 x158, Estuarine Reserves Division, Office of Ocean and Coastal Resource Management, National Ocean Service, NOAA, 1305 East West Highway, N/ORM5, Silver Spring, MD 20910. A copy of the Record of Decision for each Reserve is available upon request.

Federal Domestic Assistance Catalog Number 11.420 (Coastal Zone Management) Research Reserves.
Dated: May 16, 2006.
Doug Brown,
Acting Director, Office of Ocean and Coastal Resource Management.

[FR Doc. 06-4858 Filed 5-24-06; 8:45 am]

BILLING CODE 3510-08-M